DEPARTMENT OF THE INTERIOR

National Park Service

Temporary Concession Contract for Blue Ridge Parkway, NC/VA

AGENCY: National Park Service, Department of the Interior.

ACTION: Notice of Proposed Award of temporary concession contract for Blue Ridge Parkway.

SUMMARY: Pursuant to 36 CFR 51.24, public notice is hereby given that the National Park Service proposes to award a temporary concession contract for the conduct of certain visitor services within Blue Ridge Parkway, North Carolina and Virginia for a term not to exceed 3 years. The visitor services include the sales of authentic mountain crafts of high quality and other activities to interpret the culture of the people of the Southern Highlands. This action is necessary to avoid interruption of visitor services.

DATES: The term of the temporary concession contract will commence (if awarded) no earlier than March 1, 2010.

SUPPLEMENTARY INFORMATION: The temporary concession contract is proposed to be awarded to The Southern Highland Handicraft Guild, a qualified person (as defined in 36 CFR 51.3). The National Park Service has determined that a temporary concession contract is necessary in order to avoid interruption of visitor services and has taken all reasonable and appropriate steps to consider alternatives to avoid an interruption of visitor services.

This action is issued pursuant to 36 CFR 51.24(a). This is not a request for proposals.

Dated: February 5, 2010.
Daniel N. Wenk,
Director, National Park Service.

[FR Doc. 2010-9036 Filed 4-20-10; 8:45 am]

BILLING CODE M